OFFICE OF MANAGEMENT AND BUDGET

Public Availability of Year 2002 Agency Inventories Under the Federal Activities Inventory Reform Act of 1998 (Public Law 105-270) (“FAIR Act”)

AGENCY: Office of Management and Budget, Executive Office of the President.

ACTION: Notice of Public Availability of Agency Inventories of Activities That Are Not Inherently Governmental and of Activities That Are Inherently Governmental.

SUMMARY: Agency inventories of activities that are not inherently governmental are now available to the public from the agencies listed below, in accordance with the “Federal Activities Inventory Reform Act of 1998” (Public Law 105-270) (“FAIR Act”). Agency inventories of activities that are inherently governmental are also now available to the public from the agencies listed below. This is the second release of the 2002 FAIR Act inventories. The Office of Federal Procurement Policy has made available a summary FAIR Act User's Guide through its Internet site: http://www.whitehouse.gov/OMB/procurement/index.html. The User's Guide should help interested parties review 2002 FAIR Act inventories, and gain access to agency inventories through agency web-site addresses.

The FAIR Act requires OMB to publish an announcement of public availability of agency inventories of activities that are not inherently governmental upon completion of OMB's review and consultation process concerning the content of the agencies' inventory submissions. After review and consultation with OMB, the agency inventories are made available to the public. Interested parties who disagree with the agency's initial judgment can challenge the inclusion or the omission of an activity on the list and, if not satisfied with this review, may also demand a higher agency review/appeal.

Mitchell E. Daniels, Jr.,
Director.

Second FAIR Act Release 2002
Agency | Contact
Advisory Council on Historic Preservation | John Fowler, (202) 606-8503, www.achp.gov.
African Development Foundation | Tom Coogan, (202) 673-3946, www.adf.gov.
Appalachian Regional Commission | Guy Land, (202) 884-7674, www.arc.gov.
Broadcasting Board of Governors | Monica Smith, (202) 619-3988, www.bbg.gov.
Council on Environmental Quality | Dinah Bear, (202) 395-7421, www.whitehouse.gov/ceq.
Department of Education | Glenn Perry, (202) 708-8488, www.ed.gov/offices/OCFO.
Department of Housing and Urban Development (IG) | John Harr, (202) 708-0614, x8164, www.hud.gov/oig/oigindex.html.
Department of the Interior | Dorothy Sugiyama, (202) 208-3433, www.doi.gov.
Department of the Interior (IG) | Steve Suprun, (202) 208-6523, www.oig.doi.gov.
Environmental Protection Agency | Timothy McProuty, (202) 564-4996, www.epa.gov.
Environmental Protection Agency (IG) | Elissa Karpf, (202) 566-2604, www.epa.gov/oigearth.
Equal Employment Opportunity | James Israel, (202) 663-4250, www.eeoc.gov.
Federal Communications Commission | Michele Sutton, (202) 418-0100, www.fcc.gov.
Federal Communications Commission (IG) | Charles Willoughby, (202) 418-0472, www.fcc.gov/oig/oigreports.html.
Federal Emergency Management | Agency Margaret Chan, (202) 646-2931, www.fema.gov.
Federal Mediation and Conciliation Service | Karen Kline, (202) 606-5488, www.fmcs.gov.
Federal Mine Safety and Health Review Commission | Richard Baker, (202) 434-9900, www.fmshrc.gov.
Federal Trade Commission | Darleen Cossette, (202) 326-3255, www.ftc.gov.
Inter-American Foundation | Linda Borst-Kolko, (703) 306-4308, www.iaf.gov.
International Trade Commission | Judith Gwynn, (202) 205-2202, www.usitc.gov.
Japan-U.S. Friendship Commission | Eric Gangloff, (202) 418-9800, www.jusfc.gov/commissn/commissn.html.
Morris-Udall Foundation | Christopher Helms, (520) 670-5299, www.udall.gov.
National Archives and Records Administration | Lori Lisowski, (301) 837-1850, www.archives.gov.
National Archives and Records Administration (IG) | James Springs, (301) 837-3018, www.archives.gov/about_us/office_of_the_inspector_general/.
National Capital Planning Commission | Sandra Quick, (202) 482-7200, www.ncpc.gov.
National Gallery of Art | William Roache, (202) 842-6329, www.nga.gov.
National Endowment for the Arts | Larry Baden, (202) 682-5408, www.nea.gov.
National Labor Relations Board | Mike Erickson, (202) 273-0054, www.nlrb.gov.
National Labor Relations Board (IG) | Emil George, (202) 273-1960, www.nlrb.gov/ig/igindex.htm.
National Mediation Board | Grace Ann Leach, (202) 692-5010, www.nmb.gov.
National Science Foundation | Gary Scavongelli, (703) 292-8102, www.nsf.gov.
Occupational Safety and Health Review Commission | Ledia Bernal, (202) 606-5390, www.oshrc.gov.
Office of Management and Budget | Trish Haney, (202) 395-4754, www.whitehouse.gov/omb/.
Peace Corps | Christine Arnold, (202) 692-1100, www.peacecorps.gov.
Railroad Retirement Board | Steven Bartholow, (312) 751-4935, www.rrb.gov.
Railroad Retirement Board (IG) | William Tebbe, (312) 751-4350, www.rrb.gov/oig/Rrboig.html.
Small Business Administration | Robert Moffitt, (202) 205-6610, www.sba.gov.
U.S. Patent and Trademark Office | W. Dan Haigler, (703) 305-8161, www.uspto.gov.
U.S. Trade and Development Agency | Larry Bevan, (703) 875-4357, www.tda.gov.
U.S. Trade Representative | Susan Buck, (202) 395-9412, www.ustr.gov.

[FR Doc. 02-31023 Filed 12-6-02; 8:45 am]

BILLING CODE 3110-01-P